DEPARTMENT OF ENERGY

Federal Energy Regulatory Commission

[Docket No. RP00-260-004]

Texas Gas Transmission Corporation; Notice of Proposed Changes in FERC Gas Tariff

November 6, 2000.

Take notice that on October 31, 2000, Texas Gas Transmission Corporation (Texas Gas) tendered for filing changes to its FERC Gas Tariff, First Revised Volume No. 1. This motion rate/compliance filing is being made to place the tariff sheets listed below into effect on November 1, 2000, in compliance with the Commission's Order issued May 31, 2000, in Docket No. RP00-260 at 91FERC ¶61,215 (2000).

Alternate Substitute First Revised Sixth Revised Sheet No. 1

*Substitute First Revised Seventh Revised Sheet No. 2

Substitute Thirty-fourth Revised Sheet No. 10

Substitute Seventeenth Revised Sheet No. 10A

Substitute First Revised Original Sheet No. 10A.01

Substitute First Revised Original Sheet No. 10A.02

Substitute First Revised Original Sheet No. 10A.03

Substitute Thirtieth Revised Sheet No. 11

Substitute Twenty-second Revised Sheet No. 11A

Substitute Eighteenth Revised Sheet No. 11B

Substitute Third Revised Sheet No. 11C

Alternate Second Substitute Original Sheet No. 11D

Alternate Substitute Thirty-second Revised Sheet No. 12

Substitute Eleventh Revised Sheet No. 12A

Substitute Thirteenth Revised Sheet No. 13

Substitute Third Revised Sheet No. 13A

Substitute Twelfth Revised Sheet No. 15

Substitute Thirteenth Revised Sheet No. 16

Alternate Substitute Twelfth Revised Sheet No. 17

*Substitute Second Revised Sheet No. 66

*Substitute First Revised Sheet No. 71

*Substitute First Revised Sheet No. 72

Substitute Second Revised Sheet No. 81

*Substitute Second Revised Sheet No. 86

*Substitute First Revised Sheet No. 87

*Substitute First Revised Sheet No. 94

*Substitute Second Revised Sheet No. 97

*Substitute First Revised Sheet No. 98

*Substitute First Revised Sheet No. 99

*Substitute Original Sheet Nos. 99A-99M

*Substitute Second Revised Sheet No. 111

*Substitute First Revised Sheet No. 119

*Substitute First Revised First Revised Sheet No. 165

*Substitute First Revised Second Revised Sheet No. 166

*Substitute First Revised First Revised Sheet No. 166A

*Substitute First Revised First Revised Sheet No. 176

*Substitute First Revised Second Revised Sheet No. 177

*Substitute First Revised Sheet No. 280

*Substitute Original Sheet Nos. 290A-290K

*Substitute Second Revised Sheet No. 291

*Substitute First Revised Sheet No. 293

*Substitute First Revised Sheet No. 294

*Substitute Second Revised Sheet No. 295

*Substitute First Revised Sheet No. 296

*Substitute First Revised Sheet No. 297

*Substitute Second Revised Sheet No. 298

*Substitute First Revised Sheet No. 299

*The only change on sheets designated with an asterisk is the effective date (November 1, 2000 instead of June 1, 2000). Because the tariff language on these sheets has not changed, there are no red-lined versions of sheets designated with an asterisk in this filing.

Texas Gas requests an effective date of November 1, 2000, for the proposed tariff sheets.

Texas Gas further states that it has served copies of this filing upon the company's jurisdictional customers, interested state commission, and all parties appearing on the official restricted service list in Docket No. RP00-260.

Any person desiring to protest said filing should file a protest with the Federal Energy Regulatory Commission, 888 First Street, NW., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-28937 Filed 11-9-00; 8:45 am]

BILLING CODE 6717-01-M